DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of March 27, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Colusa County, California and Incorporated Areas
Docket No.: FEMA-B-2292
City of Colusa | City Hall, 425 Webster Street, Colusa, CA 95932.
City of Williams | City Hall, 810 East Street, Williams, CA 95987.
Unincorporated Areas of Colusa County | Public Works Building, 1215 Market Street, Colusa, CA 95932.
Sarasota County, Florida and Incorporated Areas
Docket No.: FEMA-B-2074
City of North Port | Building Department, 4970 City Hall Boulevard, North Port, FL 34286.
City of Sarasota | Department of Development Services, 1565 1st Street, 2nd Floor, Sarasota, FL 34236.
City of Venice | Building Department, 401 West Venice Avenue, Venice, FL 34285.
Town of Longboat Key | Planning, Zoning, and Building Department, 501 Bay Isles Road, Longboat Key, FL 34228.
Unincorporated Areas of Sarasota County | Sarasota County Building Department, 1001 Sarasota Center Boulevard, Sarasota, FL 34240.
Waseca County, Minnesota and Incorporated Areas
Docket No.: FEMA-B-2283
City of Elysian | City Hall, 110 West Main Street, Elysian, MN 56028.
City of Janesville | City Hall, 101 North Mott Street, Janesville, MN 56048.
City of Waseca | City Hall, 508 South State Street, Waseca, MN 56093.
Unincorporated Areas of Waseca County | Waseca County Courthouse, 307 North State Street, Waseca, MN 56093.
Cleveland County, Oklahoma and Incorporated Areas
Docket No.: FEMA-B-2242
City of Moore | City Hall, 301 North Broadway Avenue, Moore, OK 73160.
City of Oklahoma City | Public Works Department, 420 West Main Street, Suite 700, Oklahoma City, OK 73102.
Oklahoma County, Oklahoma and Incorporated Areas
Docket No.: FEMA-B-2242
City of Oklahoma City | Public Works Department, 420 West Main Street, Suite 700, Oklahoma City, OK 73102.
Grant County, South Dakota and Incorporated Areas
Docket No.: FEMA-B-2273
City of Big Stone City | Grant County Courthouse, 210 East 5th Avenue, Milbank, SD 57252.
City of Milbank | Grant County Courthouse, 210 East 5th Avenue, Milbank, SD 57252.
City of Twin Brooks | Grant County Courthouse, 210 East 5th Avenue, Milbank, SD 57252.
Sisseton Wahpeton Oyate Tribe | Sisseton Wahpeton Oyate Emergency Management Office, 114 Lake Traverse Drive, Sisseton, SD 57262.
Town of Albee | Grant County Courthouse, 210 East 5th Avenue, Milbank, SD 57252.
Town of La Bolt | Grant County Courthouse, 210 East 5th Avenue, Milbank, SD 57252.
Town of Marvin | Grant County Courthouse, 210 East 5th Avenue, Milbank, SD 57252.
Town of Revillo | Grant County Courthouse, 210 East 5th Avenue, Milbank, SD 57252.
Town of Stockholm | Grant County Courthouse, 210 East 5th Avenue, Milbank, SD 57252.
Town of Strandburg | Grant County Courthouse, 210 East 5th Avenue, Milbank, SD 57252.
Unincorporated Areas of Grant County | Grant County Courthouse, 210 East 5th Avenue, Milbank, SD 57252.
Gonzales County, Texas and Incorporated Areas
Docket No.: FEMA-B-2221
City of Gonzales | City Hall, 820 St. Joseph Street, Gonzales, TX 78629.
Unincorporated Areas of Gonzales County | Gonzales County Office of Emergency Management, 1811 Water Street, Gonzales, TX 78629.
Guadalupe County, Texas and Incorporated Areas
Docket No.: FEMA-B-2221
City of New Braunfels | City Hall, 550 Landa Street, New Braunfels, TX 78130.
City of Seguin | Development Center, 108 East Mountain Street, Seguin, TX 78155.
Unincorporated Areas of Guadalupe County | Guadalupe County Environmental Health Department, 310 IH 10 West, Seguin, TX 78155.

[FR Doc. 2023-24794 Filed 11-8-23; 8:45 am]

BILLING CODE 9110-12-P